ENVIRONMENTAL PROTECTION AGENCY

[EPA-HQ-OAR-2004-0501; FRL-9929-48-OEI]

Agency Information Collection Activities; Submission to OMB for Review and Approval; Comment Request; Information Collection Request for Green Power Partnership and Combined Heat and Power Partnership (Renewal)

AGENCY: Environmental Protection Agency (EPA).

ACTION: Notice.

SUMMARY: The Environmental Protection Agency has submitted an information collection request (ICR), “Information Collection Request for Green Power Partnership and Combined Heat and Power Partnership” (EPA ICR No. 2173.06, OMB Control No. 2060-0578) to the Office of Management and Budget (OMB) for review and approval in accordance with the Paperwork Reduction Act (44 U.S.C. 3501 et seq.). This is a proposed extension of the ICR, which is currently approved through July 31, 2015. Public comments were previously requested via the Federal Register (80 FR 8640) on February 18, 2015 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before July 27, 2015.

ADDRESSES: Submit your comments, referencing Docket ID Number EPA-HQ-OAR-2004-0501, to (1) EPA online using www.regulations.gov (our preferred method), by email to a-and-r-docket@epamail.epa.gov or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Christopher Kent, Climate Protection Partnerships Division, Office of Atmospheric Programs, MC 6202A, Environmental Protection Agency, 1200 Pennsylvania Ave. NW., Washington, DC 20460; telephone number: 202-343-9046; fax number: 202-343-2208; email address: kent.christopher@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: In 2002, EPA launched two new partnership programs with industry and other stakeholders: The Green Power Partnership (GPP) and the Combined Heat and Power Partnership (CHPP). These voluntary partnership programs encourage organizations to invest in clean, efficient energy technologies, including renewable energy and combined heat and power. To continue to be successful, it is critical that EPA collect information from GPP and CHPP Partners to ensure these organizations are meeting their renewable energy and CHP goals and to assure the credibility of these voluntary partnership programs.

EPA has developed this ICR to obtain authorization to collect information from organizations participating in the GPP and CHPP. Organizations that join these programs voluntarily agree to the following respective actions: (1) Designating a Green Power or CHP liaison and filling out a Partnership Agreement or Letter of Intent (LOI) respectively, (2) for the GPP, reporting to EPA, on an annual basis, their progress toward their green power commitment via a 3-page reporting form; (3) for the CHP Partnership, reporting to EPA information on their existing CHP projects, new project development, and other CHP-related activities via a one-page reporting form (for projects) or via an informal email or phone call (for other CHP-related activities). GPP partners that wish to receive additional recognition for their effort in green power use and promotion may submit an application for the Green Power Leadership Award. EPA uses the data obtained from its Partners to assess the success of these programs in achieving their national energy and greenhouse gas (GHG) reduction goals. Partners are organizational entities that have volunteered to participate in either Partnership program.

Respondents/affected entities: Organizations participating in the Green Power Partnership program and the Combined Heat and Power Partnership program.

Respondent's obligation to respond: Voluntary.

Estimated number of respondents: 2,565 (total).

Frequency of response: One time, annually, on occasion.

Total estimated burden: 6,624 hours (per year). Burden is defined at 5 CFR 1320.03(b).

Total estimated cost: $822,459 (per year), includes $7,695 annualized capital or operation & maintenance costs.

Changes in the Estimates: There is an increase of 801 hours in the total estimated respondent burden compared with the ICR currently approved by OMB. Since the last ICR renewal, both the Green Power Partnership and CHP Partnership have introduced program efficiencies to reduce program burden by encouraging the electronic submission of documents. The average number of hours per Partners has increased slightly from 3.25 to 3.58, the total hourly burden increased primarily due to an increase in the number of Partners in both programs and for the addition of the Green Power Leadership Award application.

Courtney Kerwin,
Acting Director, Collection Strategies Division.

[FR Doc. 2015-15671 Filed 6-25-15; 8:45 am]

BILLING CODE 6560-50-P